Title 3—

The President

Presidential Determination No. 02-24 of June 28, 2002

Presidential Determination to Authorize the Furnishing of Emergency Military Counterterrorism Assistance to the Armed Forces of the Philippines

Memorandum for the Secretary of State [and] the Secretary of Defense

Pursuant to the authority vested in me by section 506(a)(1) of the Foreign Assistance Act of 1961, as amended, 22 U.S.C. 2318(a)(1) (the “Act”), I hereby determine that:

(1) an unforeseen emergency exists that requires immediate military counterterrorism assistance to the Armed Forces of the Philippines; and

(2) the emergency requirement cannot be met under the authority of the Arms Export Control Act or any other law except 506(a) of the Act.

I therefore direct the drawdown of up to $10 million of defense articles and services from the inventory and resources of the Department of Defense to the Philippines for counterterrorism assistance.

The Secretary of State is authorized and directed to report this determination to the Congress and to arrange for its publication in the Federal Register.

B

THE WHITE HOUSE,

Washington, June 28, 2002.

[FR Doc. 02-18162

Filed 7-16-02; 8:45 am]

Billing code 4710-10-P